DEPARTMENT OF HEALTH AND HUMAN SERVICES

Centers for Disease Control and Prevention

[CDC-2015-0021; Docket Number NIOSH-153-C]

Final Skin Notation Profiles

AGENCY: National Institute for Occupational Safety and Health (NIOSH) of the Centers for Disease Control and Prevention (CDC), Department of Health and Human Services (HHS).

ACTION: Notice of availability.

SUMMARY: NIOSH announces the availability of the following 9 Skin Notation Profile documents: 1-Bromopropane [CAS No. 106-94-5], Disulfoton [CAS No. 298-04-4], Heptachlor [CAS No. 76-44-8], 2-Hydropropyl acrylate [CAS No. 999-61-1], Trichloroethylene [CAS No. 79-01-7], Tetraethyl lead [CAS No. 78-00-2], Tetramethyl lead [CAS No. 75-74-1], Dimethyl sulfate [CAS No. 77-78-1], Arsenic and compounds [CAS No. 7440-38-2].

DATES: The final Skin Notation Profile documents were published on August 17, 2017.

ADDRESSES: These documents may be obtained at the following link: http://www.cdc.gov/niosh/topics/skin/skin-notation_profiles.html.

FOR FURTHER INFORMATION CONTACT: Naomi Hudson, Dr. Ph.D., NIOSH, Education and Information Division (EID), Robert A. Taft Laboratories, 1090 Tusculum Ave., MS-C32, Cincinnati, OH 45226, phone 513/533-8388 (not a toll-free number), email: iuz8@cdc.gov.

SUPPLEMENTARY INFORMATION: On May 1, 2015, NIOSH published a request for public review in the Federal Register [80 FR 24932] on skin notation profiles and technical documents. All comments received were reviewed and addressed where appropriate.

Dated: September 18, 2017.
John Howard,
Director, National Institute for Occupational Safety and Health, Centers for Disease Control and Prevention.

[FR Doc. 2017-20126 Filed 9-25-17; 8:45 am]

BILLING CODE 4163-19-P